DEPARTMENT OF HOMELAND SECURITY

U.S. Citizenship and Immigration Services

[CIS No. 2712-22; DHS Docket No. USCIS-2014-004]

RIN 1615-ZB79

Extension and Redesignation of South Sudan for Temporary Protected Status—Correction

AGENCY: U.S. Citizenship and Immigration Services (USCIS), Department of Homeland Security (DHS).

ACTION: Notice; correction.

SUMMARY: U.S. Citizenship and Immigration Services (USCIS), a component of the Department of Homeland Security (DHS), is making a correction to the notice titled “Extension and Redesignation of South Sudan for Temporary Protected Status” that published in the Federal Register on March 3, 2022, at 87 FR 12190. USCIS is correcting a typographical error in the “General Employment-Related Information for TPS Applicants and Their Employers” section of the notice to correct the date from September 17, 2021 to May 2, 2022 as the eligibility date that should be showing on South Sudan TPS-based Employment Authorization Documents (EADs) in order to receive an automatic 180-day EAD extension through November 1, 2022.

FOR FURTHER INFORMATION CONTACT:

• You may contact Rená Cutlip-Mason, Chief, Humanitarian Affairs Division, Office of Policy and Strategy, U.S. Citizenship and Immigration Services, U.S. Department of Homeland Security, by mail at 5900 Capital Gateway Drive, Camp Springs, MD 20746, or by phone at 800-375-5283.

• For further information on TPS, including guidance on the registration and re-registration process and additional information on eligibility, please visit the USCIS TPS web page at http://www.uscis.gov/tps. You can find specific information about this extension of South Sudan's TPS designation by selecting “South Sudan” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at uscis.gov/contactcenter.

• Further information will also be available at local USCIS offices upon publication of this Notice.

SUPPLEMENTARY INFORMATION: On March 3, 2022, DHS published a notice in the Federal Register at 87 FR 12190. USCIS is making a correction to that published notice. The correction is as follows:

On page 12198, under the question “Am I eligible to receive an automatic 180-day extension of my current EAD through November 1, 2022, using this Federal Register notice?” USCIS is revising the second sentence to correct the referenced expiration date on the face of the card for TPS EADs issued under the prior TPS South Sudan extension. This date should reflect May 2, 2022, not September 17, 2021.

Applicable to automatic extension periods of current EADs for this population, DHS published a Temporary Final Rule on May 4, 2022 that temporarily increased the automatic 180-day extension under 8 CFR 274a.13(d) to up to 540 days for those TPS beneficiaries that file to renew their existing EAD.¹ Accordingly, for TPS beneficiaries who are covered under the South Sudan TPS Notice and file to renew their EAD with a May 2, 2022 expiration date on the face of the card during the filing period described under the South Sudan TPS Notice, the Temporary Final Rule permits an automatic extension of their EAD for up to 540 days after the expiration date on the face of the EAD.

¹ See “Temporary Increase of the Automatic Extension Period of Employment Authorization and Documentation for Certain Renewal Applicants” (May 4, 2022, 87 FR 26614).

Correction

In FR 2022-04573, on page 12198 in the Federal Register of March 3, 2022, in the second column, USCIS is correcting the second sentence as follows:

Regardless of your country of birth, provided that you currently have a South Sudan TPS-based EAD with an expiration date of May 2, 2022, on the face of the card, bearing the notation A-12 or C-19 under Category, this notice automatically extends your EAD through November 1, 2022.²

² Again, for applicants who filed a request to renew their existing EAD and their EAD has a facial expiration of May 2, 2022, the May 4th Temporary Final Rule automatically extends that EAD for up to 540 days through October 24, 2023.

Samantha Deshommes,
Chief, Regulatory Coordination Division, Office of Policy and Strategy, U.S. Citizenship and Immigration Services, U.S. Department of Homeland Security.

[FR Doc. 2022-10018 Filed 5-9-22; 8:45 am]

BILLING CODE 9111-97-P